DEPARTMENT OF THE INTERIOR

National Park Service

[NPS-WASO-NAGPRA-NPS0028297; PPWOCRADN0-PCU00RP14.R50000]

Notice of Inventory Completion: State University of New York at Oswego, Oswego, NY

AGENCY: National Park Service, Interior.

ACTION: Notice.

SUMMARY: The State University of New York at Oswego has completed an inventory of human remains and associated funerary objects, in consultation with the appropriate Indian Tribes or Native Hawaiian organizations, and has determined that there is a cultural affiliation between the human remains and associated funerary objects and present-day Indian Tribes or Native Hawaiian organizations. Lineal descendants or representatives of any Indian Tribe or Native Hawaiian organization not identified in this notice that wish to request transfer of control of these human remains and associated funerary objects should submit a written request to the State University of New York at Oswego. If no additional requestors come forward, transfer of control of the human remains and associated funerary objects to the lineal descendants, Indian Tribes, or Native Hawaiian organizations stated in this notice may proceed.

DATES: Lineal descendants or representatives of any Indian Tribe or Native Hawaiian organization not identified in this notice that wish to request transfer of control of these human remains and associated funerary objects should submit a written request with information in support of the request to the State University of New York at Oswego at the address in this notice by August 19, 2019.

ADDRESSES: Alanna Ossa, NAGPRA Coordinator, State University of New York at Oswego, 313 Mahar Hall, Department of Anthropology, Oswego, NY 13126, telephone (315) 312-4172, email alanna.ossa@oswego.edu.

SUPPLEMENTARY INFORMATION: Notice is here given in accordance with the Native American Graves Protection and Repatriation Act (NAGPRA), 25 U.S.C. 3003, of the completion of an inventory of human remains and associated funerary objects under the control of the State University of New York at Oswego, Oswego, NY. The human remains and associated funerary objects were removed from sites in Oswego and Onondaga Counties, NY.

This notice is published as part of the National Park Service's administrative responsibilities under NAGPRA, 25 U.S.C. 3003(d)(3). The determinations in this notice are the sole responsibility of the museum, institution, or Federal agency that has control of the Native American human remains and associated funerary objects. The National Park Service is not responsible for the determinations in this notice.

Consultation

A detailed assessment of the human remains was made by the SUNY Oswego professional staff in consultation with representatives of the Onondaga Nation.

History and Description of the Remains

In 1957, human remains representing, at minimum, two individuals were removed from the site of Denman's Indian Isle, located on Denman's Island at the west end of Oneida Lake, at the mouth of the Oneida River in Brewerton in Onondaga County, NY. This site is also known as Smith's Island, Baldwin's Isle, Iroquois Isle, and Indian Isle. The human remains were acquired during an Archaeological Society of Central New York (Auburn) dig directed by Peter Pratt. The human remains belong to two adults of indeterminate sex. No known individuals were identified. The nine associated funerary objects are one faunal bone, one chert projectile point, two plain pottery sherds, and five seed beads of unknown material.

The site is considered part of an Onondaga occupation dating to the 16th to 18th century based the artifacts recovered, which include seed beads.

In 1977-1978, human remains representing, at minimum, one individual was removed from the site of the City of Fulton sewage treatment and collection facility located in the Town of Fulton in Oswego County, NY. The human remains were acquired during a stage 1 and 2 survey by Peter and Marjorie Pratt for the City of Fulton sewage treatment and collection facility. The human remains belong to one juvenile of indeterminate sex. No known individuals were identified. No associated funerary objects are present.

In the vicinity of the site, prehistoric occupation has been identified dating back to the Archaic. Known Onondaga habitation nearby supports an affiliation of the site with the Onondaga.

In 1970-1971, human remains consisting, at minimum, of two individuals were removed from the Jayne/LaPoint site, on a beach at the LaPoint farm near the mouth of the Salmon River and directly south of Selkirk Shores State Park in Richland, Oswego County, NY. The site was excavated by the Beauchamp Society. The site was discovered when seventh grader Joan Jayne found a burial that had eroded onto the beach owned by Robert LaPoint. The human remains were removed from two separate burials, each one containing an adult of indeterminate sex. No known individuals were identified. The four associated funerary objects are one piece of unidentified wood, one unknown wooden artifact, one soil sample, and one unidentified pottery sherd.

The Jayne/LaPoint site is a prehistoric fishing camp dating primarily from A.D. 1100 to 1450 (Late Woodland period) based on the artifacts recovered. Additional, intrusive burials from the 16th and 19th century are also present. At least one of the 16th century intrusive burials (not associated with the main site) was transferred to SUNY Oswego.

In 1961-1962, human remains consisting, at minimum, of nine individuals were removed from the Pen site (also known as Jamesville Pen), from a burial ground closely associated with Keough Farm Site, in Onondaga County, NY. The human remains were acquired during excavations directed by Peter Pratt that were sponsored by William Ennis. The human remains belong to one adult of indeterminate sex (Burial 1); one adult of indeterminate sex (Burial 15); one juvenile (5-10 years) of indeterminate sex (Burial 54); one infant neonate (age could be <0) of indeterminate sex; one juvenile (1-5 years) of indeterminate sex; three adults of indeterminate sex; and one young adult (19-25 years) of indeterminate sex. No known individuals were identified. The 89 associated funerary objects are two unidentified faunal bones, 25 possible turtle faunal bones, one carnivore tooth, three shell beads (possible preforms), one soil sample with tiny faunal bone fragments, one rusted metal unidentified object, 55 shell beads, and one unidentified faunal bone.

The Pen site includes both a village habitation and a burial ground dating to A.D. 1682-1696, based on artifacts recovered with the burials and habitation.

At an unknown time, human remains consisting, at minimum, of three individuals were recovered from the Valley Oaks site, located in Onondaga, in Onondaga County, NY. These human remains were transferred to SUNY Oswego at an unknown time. The human remains belong to one young adult (16-25 years) possibly male (Burial 2); one adult of indeterminate sex (Burial 3); and one young adult (14-21 years) of indeterminate sex (Burial 4). No known individuals were identified. The 207 associated funerary objects are one unidentified faunal bone, four unidentified faunal bones, 200 unidentified faunal bones, one unidentified faunal bones, and one seed bead.

Valley Oaks is a village habitation site dating to the late 17th and early 18th century, based on artifacts recovered from this site and historic accounts.

Determinations Made by the State University of New York at Oswego

Officials of the State University of New York at Oswego have determined that:

• Pursuant to 25 U.S.C. 3001(9), the human remains described in this notice represent the physical remains of 17 individuals of Native American ancestry.

• Pursuant to 25 U.S.C. 3001(3)(A), the 309 objects described in this notice are reasonably believed to have been placed with or near individual human remains at the time of death or later as part of the death rite or ceremony.

• Pursuant to 25 U.S.C. 3001(2), there is a relationship of shared group identity that can be reasonably traced between the Native American human remains and associated funerary objects and the Onondaga Nation.

Additional Requestors and Disposition

Lineal descendants or representatives of any Indian Tribe or Native Hawaiian organization not identified in this notice that wish to request transfer of control of these human remains and associated funerary objects should submit a written request with information in support of the request to Alanna Ossa, NAGPRA Coordinator, State University of New York at Oswego, 313 Mahar Hall, Department of Anthropology, Oswego, NY 13126, telephone (315) 312-4172, email alanna.ossa@oswego.edu, by August 19, 2019. After that date, if no additional requestors have come forward, transfer of control of the human remains and associated funerary objects to the Onondaga Nation may proceed.

The State University of New York at Oswego is responsible for notifying the Onondaga Nation that this notice has been published.

Dated: June 25, 2019.
Melanie O'Brien,
Manager, National NAGPRA Program.

[FR Doc. 2019-15438 Filed 7-18-19; 8:45 am]

BILLING CODE 4312-52-P